DEPARTMENT OF JUSTICE

[OMB Number 1121-NEW]

Agency Information Collection Activities; Proposed Collection Comments Requested; New Collection: Annual Survey of Jails in Indian Country

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. The proposed information collection was previously published in the Federal Register Volume 84, Number 23, pages 1510 and 1511, on February 4, 2019, allowing a 60-day comment period. Following publication of the 60-day notice, the Bureau of Justice Statistics received no comments.

DATES: Comments are encouraged and will be accepted for 30 days until May 13, 2019.

FOR FURTHER INFORMATION CONTACT: If you have comments especially on the estimated public burden or associated response time, suggestions, or need a copy of the proposed information collection instrument with instructions or additional information, please contact Todd D. Minton, Bureau of Justice Statistics, 810 Seventh Street NW, Washington, DC 20531 (email: Todd.Minton@usdoj.gov; telephone: 202-305-9630).

SUPPLEMENTARY INFORMATION: Written comments and suggestions from the public and affected agencies concerning the proposed collection of information are encouraged. Your comments should address one or more of the following four points:

— Evaluate whether the proposed collection of information is necessary for the proper performance of the functions of the Bureau of Justice Statistics, including whether the information will have practical utility;

— Evaluate the accuracy of the agency's estimate of the burden of the proposed collection of information, including the validity of the methodology and assumptions used;

— Evaluate whether and if so how the quality, utility, and clarity of the information to be collected can be enhanced; and

— Minimize the burden of the collection of information on those who are to respond, including through the use of appropriate automated, electronic, mechanical, or other technological collection techniques or other forms of information technology, e.g., permitting electronic submission of responses.

Overview of This Information Collection

1. Type of Information Collection: New collection.

2. Title of the Form/Collection: Annual Survey of Jails in Indian Country (SJIC).

3. Agency form number, if any, and the applicable component of the Department of Justice sponsoring the collection: The form number is CJ-5B: Survey of Jails in Indian Country (SJIC). This form is sent to approximately 84 confinement facilities, detention centers, and other correctional facilities operated by tribal authorities or the Bureau of Indian Affairs (BIA). The applicable component within the Department of Justice is the Bureau of Justice Statistics (BJS), in the Office of Justice Programs.

The Bureau of Justice Statistics (BJS) requests clearance to conduct the Survey of Jails in Indian Country (SJIC) for a three-year period and also requests a new unique clearance number for the SJIC data collection. The SJIC is currently approved through 1/31/2019 under OMB Control Number 1121-0094 along with the Annual Survey of Jails (ASJ), and until recently, the jail portion of the Mortality in Correctional Institutions (MCI-formerly the Deaths in Custody Reporting Program). Considering these data collections are unique in substance, collection period, and respondents, each collection has required enhancements at different periods of time. Consequently, BJS has revised the combined clearance multiple times over the past several years, and in some cases, BJS delayed enhancing a unique survey until all data collections could be addressed with a single revision. This process does not allow BJS to address the critical needs of a single collection in a timely manner. As a solution, BJS proposes to separate these collections and obtained a unique OMB clearance for each. The ASJ, when it is next fielded in 2020, will retain the OMB Control Number 1121-0094. The MCI-Jails collection will be combined with the MCI-Prison collection under OMB Control Number 1121-0249. The SJIC will obtain a new OMB Control Number through this application.

4. Affected public who will be asked or required to respond, as well as a brief abstract:

The affected public that will be asked to respond to CJ-5B includes jail administrators from approximately 84 confinement facilities, detention centers, and other correctional facilities operated by tribal authorities or the Bureau of Indian Affairs. The respondents will be asked to provide information for the following categories:

(a) At midyear (last weekday in the month of June), the number of inmates confined in jail facilities including: Male and female adult and juvenile inmates; persons under age 18 held as adults; convicted and unconvicted males and females; persons held for a felony and a misdemeanor; the inmates most serious offense (i.e., domestic violence offense, aggravated or simple assault, rape, other violent, burglary, larceny-theft, drug law violation, DWI/DUI of alcohol or drugs, public intoxication, and other unspecified offenses);

(b) The average daily population during the 30-day period in June;

(c) The date and count for the greatest number of confined inmates during the 30-day period in June;

(d) The number of new admissions into jail, and final discharges from jail during the month of June;

(e) From July 1 of the previous year to June 30 of the current collection year: The number of inmate deaths while confined, the number of deaths attributed to suicide, and the number of confined inmates that attempted suicide;

(f) At midyear, the number of correctional staff employed by the facility and their occupation (e.g., administration, jail operations, educational staff, etc.);

(g) At midyear, the number of jail operations employees who had received the basic detention officer certification and how many had received 40 hours of in-service training; and

(h) At midyear, the total rated capacity of jail facilities.

This collection is the only national effort devoted to describing and understanding annual changes in the tribal jail population. The collection enables BJS, tribal correctional authorities and administrators, legislators, researchers, and jail planners to track growth in the number of jails and their capacities nationally, as well as to track changes in the demographics and supervision status of the tribal jail population and the prevalence of crowding.

5. An estimate of the total number of respondents and the amount of time estimated for an average respondent to respond:

Reporting mode | Purpose of contact | Number of responses | Average reporting time (min) | Total burden hours
Mail, Fax, Email, telephone | Data collection | 84 | 75 | 105
Email and telephone | Verify facility operational status and point-of-contact | 84 | 2 | 3
Email and telephone | Data quality follow-up validation | 84 | 7 | 10
Total |  | 84 | 84 | 118

The questionnaire will be sent to 84 Indian country correctional facilities operated by tribal authorities or the Bureau of Indian Affairs (BIA). Based on prior years' reporting, we estimate a reporting time of 75 minutes for the SJIC questionnaire. If needed, jail respondents will also be contacted by email or telephone to verify data quality issues. Thus, we expect that in any data collection year 84 SJIC respondents will have an average reporting time of 2 minutes to verify facility operational status and point-of-contact, 75 minutes for the data collection, and an additional 7 minutes for data quality follow-up validation, for a total burden 84 minutes per facility. Annually, this results in a total burden estimate for SJIC of 118 hours.

If additional information is required, contact: Melody Braswell, Department Clearance Officer, United States Department of Justice, Justice Management Division, Policy and Planning Staff, Two Constitution Square, 145 N Street NE, 3E.405A, Washington, DC 20530.

Dated: April 8, 2019.
Melody Braswell,
Department Clearance Officer for PRA, U.S. Department of Justice.

[FR Doc. 2019-07167 Filed 4-10-19; 8:45 a.m.]

BILLING CODE 4410-18-P